ENVIRONMENTAL PROTECTION AGENCY

40 CFR Parts 60 and 63

[AD-FRL-7379-3]

RIN 2060-AJ42

Standards of Performance for Bulk Gasoline Terminals and National Emission Standards for Gasoline Distribution Facilities (Bulk Gasoline Terminals and Pipeline Breakout Stations)

Correction

In proposed rule document 02-23740 beginning on page 59434 in the issue of Friday, September 20, 2002 make the following correction:

On page 59434, in the second column, in the third line from the top, “October 20, 2002” should read “October 10, 2002”.

[FR Doc. C2-23740 Filed 9-27-02; 8:45 am]

BILLING CODE 1505-01-D

GENERAL SERVICES ADMINISTRATION

[OMB Control No. 3090-0044]

GSA Submission for OMB Review; GSA Form 3453, Application/Permit for Use of Space in Public Buildings and Grounds

Correction

In notice document 02-23791 beginning on page 59060 in the issue of Thursday, September 19, 2002, make the following correction:

On page 59060, in the third column, in the seventh line from the bottom, “180 ” should read “1800”.

[FR Doc. C2-23791 Filed 9-27-02; 8:45 am]

BILLING CODE 1505-01-D